OFFICE OF PERSONNEL MANAGEMENT

Information Collection: Application for Death Benefits Under the Federal Employees' Retirement System (SF 3104); and Documentation and Elections in Support of Application for Death Benefits When Deceased Was an Employee at the Time of Death (SF 3104B)

AGENCY: Office of Personnel Management.

ACTION: 60-Day notice and request for comments.

SUMMARY: Retirement Services, Office of Personnel Management (OPM) offers the general public and other federal agencies the opportunity to comment on an expiring information collection (ICR), Application for Death Benefits under the Federal Employees' Retirement System (SF 3104); and Documentation and Elections in Support of Application for Death Benefits When Deceased Was an Employee at the Time of Death (SF 3104B).

DATES: Comments are encouraged and will be accepted until April 19, 2022.

ADDRESSES: You may submit comments, identified by docket number and/or Regulatory Information Number (RIN) and title, by the following method:

Federal Rulemaking Portal: http://www.regulations.gov. Follow the instructions for submitting comments. All submissions received must include the agency name and docket number or RIN for this document. The general policy for comments and other submissions from members of the public is to make these submissions available for public viewing at http://www.regulations.gov as they are received without change, including any personal identifiers or contact information.

FOR FURTHER INFORMATION CONTACT: A copy of this information collection instrument with applicable supporting documentation may be obtained by contacting the Retirement Services Publications Team, Office of Personnel Management, 1900 E Street NW, Room 3316-L, Washington, DC 20415, Attention: Cyrus S. Benson, or sent via electronic mail to Cyrus.Benson@opm.gov or via telephone at (202) 606-4808.

SUPPLEMENTARY INFORMATION: As required by the Paperwork Reduction Act of 1995 (Pub. L. 104-13, 109 Stat. 106 (May 22, 1995), codified at 44 U.S.C. chapter 35), OPM is soliciting comments for this collection (OMB No. 3206-0172). We are particularly interested in comments that do the following:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

The form SF 3104, Application for Death Benefits Under the Federal Employees' Retirement System, is needed to collect information so that OPM can pay death benefits to survivors of Federal employees and annuitants. The form SF 3104B, Documentation in Support of Application for Death Benefits When Deceased Was an Employee at the Time of Death, is needed for deaths in service so that survivors may make elections regarding health benefits, payment of post-1956 military service deposits, and payment methods for death benefits.

Analysis

Agency: Retirement Operations, Retirement Services, Office of Personnel Management

Title: Application for Death Benefits under the Federal Employees' Retirement System and Documentation and Elections in Support of Application for Death Benefits When Deceased Was an Employee at the Time of Death.

OMB Number: 3206-0172.

Frequency: On occasion.

Affected Public: Individuals or Households.

Number of Respondents: SF 3104 = 12,734 and SF 3104B = 4,017.

Estimated Time per Respondent: 60 minutes.

Total Burden Hours: 16,751 hours.

Office of Personnel Management.
Kellie Cosgrove Riley,
Director, Office of Privacy and Information Management.

[FR Doc. 2022-03580 Filed 2-17-22; 8:45 am]

BILLING CODE 6325-38-P